ENVIRONMENTAL PROTECTION AGENCY

40 CFR Part 52

[MO 092-1092; FRL-6528-7]

Approval and Promulgation of Implementation Plans; State of Missouri

AGENCY: Environmental Protection Agency (EPA).

ACTION: Final rule.

SUMMARY: EPA is announcing it is approving an amendment to the Missouri State Implementation Plan (SIP). EPA is approving volatile organic compound (VOC) rules which are applicable to the St. Louis nonattainment area. These rules constitute part of the St. Louis 15% Rate-of-Progress Plan (15% Plan) and were proposed for approval in the March 18, 1996, and July 2, 1997, Federal Register. EPA is also approving the Missouri 1990 Base Year Emissions Inventory for the St. Louis area. The Inventory was proposed for approval in the March 18, 1996, Federal Register.

EFFECTIVE DATE: This rule will be effective March 20, 2000.

ADDRESSES: Copies of the state submittal(s) are available at the following addresses for inspection during normal business hours: Environmental Protection Agency, Air Planning and Development Branch, 901 North 5th Street, Kansas City, Kansas 66101; and the Environmental Protection Agency, Air and Radiation Docket and Information Center, Air Docket (6102), 401 M Street, S.W., Washington, D.C. 20460.

FOR FURTHER INFORMATION CONTACT: Wayne Kaiser at (913) 551-7603.

SUPPLEMENTARY INFORMATION: Throughout this document whenever “we, us, or our” is used, we mean EPA.

This section provides additional information by addressing the following questions:

What is a SIP?

What is the Federal approval process for a SIP?

What does Federal approval of a state regulation mean to me?

What is being addressed in this document?

Have the requirements for approval of a SIP revision been met?

What action is EPA taking?

What Is a SIP?

Section 110 of the Clean Air Act (CAA) requires states to develop air pollution regulations and control strategies to ensure that state air quality meets the national ambient air quality standards established by us. These ambient standards are established under section 109 of the CAA, and they currently address six criteria pollutants. These pollutants are: carbon monoxide, nitrogen dioxide, ozone, lead, particulate matter, and sulfur dioxide.

Each state must submit these regulations and control strategies to us for approval and incorporation into the Federally enforceable SIP.

Each Federally approved SIP protects air quality primarily by addressing air pollution at its point of origin. These SIPs can be extensive, containing state regulations or other enforceable documents and supporting information such as emission inventories, monitoring networks, and modeling demonstrations.

What Is the Federal Approval Process for a SIP?

In order for state regulations to be incorporated into the Federally enforceable SIP, states must formally adopt the regulations and control strategies consistent with state and Federal requirements. This process generally includes a public notice, public hearing, public comment period, and a formal adoption by a state-authorized rulemaking body.

Once a state rule, regulation, or control strategy is adopted, the state submits it to us for inclusion into the SIP. We must provide public notice and seek additional public comment regarding the proposed Federal action on the state submission. If adverse comments are received, they must be addressed prior to any final Federal action by us.

All state regulations and supporting information approved by us under section 110 of the CAA are incorporated into the Federally approved SIP. Records of such SIP actions are maintained in the Code of Federal Regulations (CFR) at Title 40, part 52, entitled “Approval and Promulgation of Implementation Plans.” The actual state regulations which are approved are not reproduced in their entirety in the CFR outright but are “incorporated by reference,” which means that we have approved a given state regulation with a specific effective date.

What Does Federal Approval of a State Regulation Mean to Me?

Enforcement of the state regulation before and after it is incorporated into the Federally approved SIP is primarily a state responsibility. However, after the regulation is Federally approved, we are authorized to take enforcement action against violators. Citizens are also offered legal recourse to address violations as described in the CAA.

What Is Being Addressed in This Document?

On March 18, 1996, we proposed to approve a number of VOC rules submitted by the state of Missouri to meet the St. Louis 15% Plan requirements of section 182(b)(1)(A) of the CAA (61 FR 10968). We subsequently reproposed approval of two of the VOC rules on July 2, 1997 (62 FR 35756).

In the March 18, 1996, Federal Register notice, we also proposed to approve Missouri's 1990 Base Year Emissions Inventory for the St. Louis nonattainment area. We also proposed to disapprove the state's 15% Plan because it did not contain sufficient measures to achieve the required 15% reduction in VOC emissions. Due to significant revisions to the 15% Plan and resubmittal by the state, we are reproposing action on the 15% Plan in a separate Federal Register notice published in today's Federal Register.

This Federal Register notice takes final action to fully approve the VOC rules (with exceptions noted below) and the 1990 Base Year Emissions Inventory which were proposed for approval in the two Federal Register notices cited above.

Action on VOC Rules

1. Open Burning Restrictions, Missouri Rule 10 CSR 10-5.070.

There were no comments received during the public comment period. The state effective date of this rule is January 29, 1995.

2. Control of Emissions from Bakery Ovens, Missouri Rule 10 CSR 10-5.440.

We did not receive any comments on this rule during the public comment period. However, as stated in the proposal, we noted that the rule did not specify a reference method for determining compliance. The state subsequently revised the rule to satisfactorily address this deficiency. The revised rule was submitted to us on March 12, 1997. Consequently, we are fully approving the revised rule. The state effective date of this rule is December 30, 1996.

3. Control of Emissions from Offset Lithographic Printing, Missouri Rule 10-5.442.

There were no comments received during the public comment period. The state effective date of this rule is May 28, 1995.

4. Control of VOC Emissions from Traffic Coatings, Missouri Rule 10 CSR 10-5.450.

There were no comments received during the public comment period. The state effective date for this rule is May 28, 1995.

5. Control of Emissions from Aluminum Foil Rolling, Missouri Rule 10 CSR 10-5.451.

We did not receive any comments on this rule during the public comment period. The state effective date of this rule is November 30, 1995.

6. Control of Emission from Solvent Cleanup Operations, Missouri Rule 10 CSR 10-5.455.

There were no comments received during the public comment period. However, we had proposed to condition its approval in the March 18, 1996, notice on the state revising the rule to delete an operating option which did not require an equivalent emission reduction, and did not provide standards for determining an acceptable alternative emission reduction.

The state subsequently revised the rule to delete the option noted above. The revised rule was submitted to us on March 6, 1997. Because the revision corrects the deficiency noted in the proposal, we are fully approving the revised rule in the Missouri SIP. The state effective date for this rule is February 28, 1997.

7. Control of Emissions from Municipal Solid Waste Landfills, Missouri Rule 10 CSR 10-5.490.

At the time of the proposed notice, the state had only a draft landfill rule for our review and for use in determining emission reductions in the 15% Plan. The state subsequently adopted a final landfill rule for the St. Louis area and submitted it to us on February 24, 1997. We subsequently proposed to approve the rule in a Federal Register notice dated July 2, 1997. There were no comments received during the public comment period. The state effective date for this rule is December 30, 1996.

Action on Base Year Inventory

In the March 18, 1996, Federal Register notice, we proposed approval of the state's 1990 Base Year Emissions Inventory. Although the inventory fulfills a separate CAA requirement, it is also used as a basis for development of the 15% Plan. No comments were received on this proposal during the public comment period. Therefore, we are taking final action to approve the 1990 Base Year Emissions Inventory submitted to us on January 20, 1995.

Other Rules

In the March 18, 1996, Federal Register notice, we also proposed to approve two additional rules, which we are not acting on in today's notice:

Rule 10 CSR 10-5.443, Control of Gasoline Reid Vapor Pressure (RVP). Since the March 18, 1996, proposal, the state has requested to opt in to the Federal reformulated gasoline program, and EPA approved the state's request on March 3, 1999 (see 64 FR 10366). This program will cut VOC emissions by an additional 5.53 tons/day over those achieved by the state rule and thus exceed the emissions reductions projected in the 15% Plan. The state intends to rescind the St. Louis RVP rule in the near future, since it no longer serves any purpose with respect to the 15% Plan. Therefore, we are taking no action on this rule.

Rule 10 CSR 10-5.220, Control of Petroleum Liquid Storage, Loading and Transfer. Since the March 18, 1996, proposal, the state has revised and resubmitted this rule, which requires Stage I and Stage II vapor recovery equipment for petroleum facilities in the St. Louis nonattainment area. Therefore, we will repropose action on this rule in a separate Federal Register notice.

Have The Requirements for Approval of a SIP Revision Been Met?

The state submittals have met the public notice requirements for SIP submissions in accordance with 40 CFR section 51.102. The submittals also satisfied the completeness criteria of 40 CFR Part 51, Appendix V. In addition, as explained above and in more detail in the technical support document (TSD) which is part of this document, the revision meets the substantive SIP requirements of the CAA, including section 110 and implementing regulations. Additional background information and our rationale for approval of the rules are also included in the March 18, 1996, and July 2, 1997, Federal Register notices and related TSDs.

What Action Is EPA Taking?

EPA is taking final action to approve VOC rules and the Base Year Emissions Inventory submitted by Missouri to meet the requirements of section 182(b) of the Act. The VOC rules strengthen the SIP by obtaining needed reductions in VOC emissions, and the emissions inventory forms the baseline for achieving the required 15% reductions in VOC emissions.

Conclusion

EPA is approving an amendment to the Missouri SIP which includes VOC rules and the 1990 Base Year Emissions Inventory for the St. Louis nonattainment area.

Administrative Requirements

Under Executive Order 12866 (58 FR 51735, October 4, 1993), this action is not a “significant regulatory action” and therefore is not subject to review by the Office of Management and Budget. This action merely approves state law as meeting Federal requirements and imposes no additional requirements beyond those imposed by state law. Accordingly, the Administrator certifies that this rule will not have a significant economic impact on a substantial number of small entities under the Regulatory Flexibility Act (5 U.S.C. 601 et seq.). Because this rule approves preexisting requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the states, on the relationship between the national government and the states, or on the distribution of power and responsibilities among the various levels of government, as specified in Executive Order 13132 (64 FR 43255, August 10, 1999), because it merely approves a state rule implementing a Federal standard, and does not alter the relationship or the distribution of power and responsibilities established in the Clean Air Act (CAA). This rule also is not subject to Executive Order 13045 (62 FR 19885, April 23, 1997), because it is not economically significant.

In reviewing SIP submissions, EPA's role is to approve state choices, provided that they meet the criteria of the CAA. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings'' issued under the Executive Order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the United States Senate, the United States House of Representatives, and the Comptroller General of the United States prior to publication of the rule in the Federal Register. A major rule cannot take effect until 60 days after it is published in the Federal Register. This action is not a “major rule” as defined by 5 U.S.C. section 804(2).

Under section 307(b)(1) of the CAA, petitions for judicial review of this action must be filed in the United States Court of Appeals for the appropriate circuit by April 17, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects 40 CFR Part 52

Environmental protection, Air pollution control, Carbon monoxide, Hydrocarbons, Incorporation by reference, Intergovernmental relations, Lead, Nitrogen dioxide, Ozone, Particulate matter, Reporting and recordkeeping requirements, Sulfur oxides.

Dated: January 13, 2000.
Nat Scurry,
Acting Regional Administrator, Region 7.

Chapter I, title 40 of the Code of Federal Regulations is amended as follows:

PART 52—[AMENDED]

1. The authority citation for part 52 continues to read as follows:

Authority: 42 U.S.C. 7401 et seq.

Subpart AA—Missouri

2. § 52.1320 is amended by:

a. In the table to paragraph (c), under Chapter 5, revising the entry “10-5.070”;

b. In the table to paragraph (c), under Chapter 5, adding in numerical order entries “10-5.440,” “10-5.442,” “10-5.450,” “10-5.451,” “10-5.455,” and “10-5.490”;

c. In the table to paragraph (e), under Chapter 5, adding the entry “1990 Base Year Inventory” to the end of the table.

The revisions and additions read as follows:

§ 52.1320 Identification of plan.

* * * * *

(c) * * *

EPA—Approved Missouri Regulations
Missouri citation | Title | State effective date | EPA approval date | Explanation
Missouri Department of Natural Resources
* * * * * * *
Chapter 5”Air Quality Standards and Air Pollution Control Regulations for the St. Louis Metropolitan Area
* * * * * * *
10-5.070 | Open Burning Restrictions | 01/29/95 | [insert FR cite and date of publication]
* * * * * * *
10-5.440 | Control of Emissions from Bakery Ovens | 12/30/96 | [insert FR cite and date of publication]
10-5.442 | Control of Emissions from Offset Lithographic Printing Operations | 05/28/95 | [insert FR cite and date of publication]
10-5.450 | Control of VOC Emissions from Traffic Coatings | 05/28/95 | [insert FR cite and date of publication]
10-5.451 | Control of Emissions from Aluminum Foil Rolling | 11/30/95 | [insert FR cite and date of publication]
10-5.455 | Control of Emission from Solvent Cleaning Operations | 02/28/97 | [insert FR cite and date of publication]
* * * * * * *
10-5.490 | Municipal Solid Waste Landfills | 12/30/96 | [insert FR cite and date of publication]
* * * * * * *

* * * * *

(e) * * *

Name of non-regulatory SIP provision | Applicable geographic or nonattainment area | State submittal date | EPA approval date | Explanation
* * * * * * *
1990 Base Year Inventory | St. Louis | 01/20/95 | [insert date of publication and FR cite]

[FR Doc. 00-3469 Filed 2-16-00; 8:45 am]

BILLING CODE 6560-50-P